DEPARTMENT OF JUSTICE

Notice of Lodging of Proposed Amendment to Consent Decree Under the Comprehensive Environmental Response, Compensation, and Liability Act and the Resource Conservation and Recovery Act

On November 9, 2017, the Department of Justice and the State of California on behalf of the California Department of Toxic Substances Control and Toxic Substances Control Account (“DTSC”) lodged a proposed amendment (“Amendment 1”) to a Consent Decree with the United States District Court for the Central District of California (“Court”) in the matter of United States of America and State of California on behalf of the Department of Toxic Substances Control and Toxic Substances Control Account vs. Abex Aerospace et al., Civil Action No. 2:16-cv-02696 (C.D. Cal.). This Amendment 1 amends Appendix D of the Consent Decree previously approved by the Court on March 31, 2017; that Consent Decree pertains to environmental contamination at Operable Unit 2 (“OU2”) of the Omega Chemical Corporation Superfund Site (Site) in Los Angeles County, California. The Amendment is for the sole purposes of adding additional settling parties to the Consent Decree, and follows the mechanisms that the previously approved Consent Decree sets forth for adding additional settlors.

The Consent Decree resolves certain claims under Sections 106 and 107 of the Comprehensive Environmental Response, Compensation, and Liability Act, 42 U.S.C. 9606, 9607, and Section 7003 of the Resource Conservation and Recovery Act, 42 U.S.C. 6973, as well as related state law claims, in connection with environmental contamination at OU2. The Amendment adds the following additional settling parties as Settling Cash Defendants:

(a) Two parties, Mission Linen Supply Company and Pilot Chemical Corp., each of which has owned or operated a facility within the commingled OU2 groundwater plume area. These parties are “Certain Noticed Parties” within the meaning of Paragraph 75 and Appendix G of the Consent Decree.

(b) Two parties, Hexion Inc. and MCP Foods, Inc., who are successors to the liability of a single “arranger” party who sent waste to the Omega Chemical Corporation facility in Whittier, California; and

(c) Twenty-six parties that had previously resolved their liability associated with the Omega Chemical Corporation facility: American International Industries; Atoll Holdings, Inc.; Brunton Enterprises, Inc.; Carvin Corp.; Central Plaza; Corchem Corporation; Couch and Philippi, Inc.; Ed-Lin Auto Body, Inc.; Gamboa's Body and Frame Inc.; Good-West Rubber Corp; I & I Deburring, Inc.; J.D. Property Management, Inc.; Kwikset Corporation; Luppen Holdings, Inc.; M & M Printed Bag, Inc.; Newton Heat Treating Company, Inc; NMB, Inc. [name correction replacing New Hampshire Ball Bearing (NHBB)]; Northwestern, Inc.; Penske Corporation; Pneudraulics, Inc.; Pocino Foods Company; Quaker City Plating & Silversmith, LP; Rooke Corp. (dba Aviation Equipment); Santa Fe Braun, Inc; Tech-Graphic, Inc.; and Unidynamics/Phoenix, Inc.

This amended settlement requires the additional settling parties in categories (a) and (b) to pay $12,625,000 into Qualified Settlement Funds, as provided for in Paragraph 27(a) of the Consent Decree. The parties in category (c) are parties that have previously resolved their liability within the group of generators at the Omega Chemical Corporation facility, and are not required to pay money to the United States and DTSC.

The publication of this notice opens a period for public comment on the Consent Decree. Comments should be addressed to the Assistant Attorney General, Environment and Natural Resources Division, and should refer to United States of America and State of California on behalf of the Department of Toxic Substances Control and Toxic Substances Control Account vs. Abex Aerospace et al., D.J. Ref. No. 90-11-3-06529/10. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

As provided by RCRA, a public meeting will be held on the proposed settlement if requested in writing by fifteen (15) days after the publication date of this notice. Requests for a public meeting may be made by contacting the EPA Remedial Project Manager for OU2, Wayne Praskins, by email at praskins.wayne@epa.gov. If a public meeting is requested, information about the date and time of the meeting will be published in the local newspaper, The Whittier Daily, and will be sent to persons on the EPA Omega Superfund Site mailing list.

During the public comment period, the lodged proposed Amendment and the previously approved Consent Decree may be examined and downloaded at this Justice Department Web site: https://www.usdoj.gov/enrd/consent-decrees. We will provide a paper copy of the Consent Decree and the proposed Amendment upon written request and payment of reproduction costs. Please mail your request and payment to: Consent Decree Library, U.S. DOJ—ENRD, P.O. Box 7611, Washington, DC 20044-7611.

Please enclose a check or money order for $88.25 (25 cents per page reproduction cost) for the Consent Decree and the proposed Amendment, payable to the United States Treasury. For a paper copy of the Consent Decree and the proposed Amendment without the appendices and signature pages, the cost is $23.25. For a paper copy of the Amendment only (without the original Consent Decree), together with its signature pages, the cost is $1.75.

Henry S. Friedman,
Assistant Section Chief, Environmental Enforcement Section, Environment and Natural Resources Division.

[FR Doc. 2017-24825 Filed 11-15-17; 8:45 am]

BILLING CODE 4410-15-P